DEPARTMENT OF ENERGY

Federal Energy Regulatory Commission

[Docket Nos. CP99-580-004 and CP99-582-005]

Southern LNG Inc.; Notice of Compliance Filing

December 20, 2001.

Take notice that on December 14, 2001, Southern LNG Inc. (Southern LNG) tendered for filing as part of its FERC Gas Tariff, Original Volume No. 1, the following proposed sheets to become effective December 1, 2001:

Substitute Original Sheet No. 5

Substitute Original Sheet No. 6

Substitute Original Sheet No. 7

Substitute Original Sheet No. 20

Substitute Original Sheet No. 31

Substitute Original Sheet No. 60

Substitute Original Sheet No. 99

Substitute Original Sheet No. 101

Substitute Original Sheet No. 102

Substitute Original Sheet No. 133

Southern LNG states that the filing implements certain directives in the Commission's order issued on November 30, 2001 in the captioned proceeding.

SLNG states that copies of the filing will be served upon its customers and interested state commissions, and upon each party designated on the official service listed compiled by the Secretary in this proceeding.

Any person desiring to protest said filing should file a protest with the Federal Energy Regulatory Commission, 888 First Street, NE., Washington, DC 20426, in accordance with section 385.211 of the Commission's rules and regulations. All such protests must be filed on or before December 28, 2001. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-31990 Filed 12-27-01; 8:45 am]

BILLING CODE 6717-01-P